DEPARTMENT OF HOMELAND SECURITY

Coast Guard

33 CFR Part 117

[Docket No. USCG-2025-0714]

RIN 1625-AA09

Drawbridge Operation Regulation; Wishkah River, Aberdeen, WA

AGENCY: Coast Guard, DHS.

ACTION: Notice of proposed rulemaking.

SUMMARY: The Coast Guard proposes to temporarily change the operating schedule that governs the Wishkah Street Bridge across the Wishkah River at mile 0.4 in Aberdeen, WA. The bridge will remain in the closed to navigation position while the bridge owner, Washington State Department of Transportation (WSDOT), performs maintenance and restoration work on the bridge. We invite your comments on this proposed rulemaking.

DATES: Comments and related material must reach the Coast Guard on or before January 12, 2026. The Coast Guard anticipates that this proposed temporary rule will be effective from 7 a.m. on September 1, 2026, through 6 p.m. on August 31, 2027.

ADDRESSES: You may submit comments identified by docket number USCG-2025-0714 using Federal Decision Making Portal at https://www.regulations.gov.

See the “Public Participation and Request for Comments” portion of the SUPPLEMENTARY INFORMATION section below for instructions on submitting comments. This notice of proposed rulemaking with its plain-language, 100-word-or-less proposed rule summary will be available in this same docket.

FOR FURTHER INFORMATION CONTACT: If you have questions on this proposed rule, call or email Steven Fischer, Northwest District Bridge Administrator, Coast Guard; telephone 206-220-7282, email, d13-smb-d13-bridges@uscg.mil.

SUPPLEMENTARY INFORMATION:

I. Table of Abbreviations

CFR Code of Federal Regulations

DHS Department of Homeland Security

FR Federal Register

OMB Office of Management and Budget

NPRM Notice of Proposed Rulemaking (Advance, Supplemental)

§ Section

U.S.C. United States Code

WSDOT Washington State Department of Transportation

II. Background, Purpose and Legal Basis

WSDOT owns and operates the Wishkah Street Bridge crossing the Wishkah River at mile 0.4. WSDOT is asking to change the current bridge operating regulation, 33 CFR 117.1065(c), to allow for maintenance and restoration work. The bridge must remain in the closed-to-navigation position from 7 a.m. on September 1, 2026, through 6 p.m. on August 31, 2027, for WSDOT to replace major mechanical components. Records show that the drawbridge has only opened once per year on average over the last four years.

III. Discussion of Proposed Rule

The proposed rule will allow the Wishkah Street Bridge to remain closed from 7 a.m. on September 1, 2026, until 6 p.m. on August 31, 2027. Vessels that can pass under the bridge without needing it to open may do so whenever it is safe to transit. When closed, the bridge provides a vertical clearance of 10 feet and 6 inches above high tide and more than 19 feet at low tide. Maritime activity on the Wishkah River has been declining for years, so closing the draw is unlikely to affect mariners who need it opened. There are no alternate routes on this section of the Wishkah River.

This proposed temporary rule is based on the need to keep the bridge in the closed to navigation position during maintenance and restoration. Pending public comments to this NPRM the Coast Guard has preliminarily determined that the proposed rule change will meet the reasonable navigation needs of mariners while allowing for necessary repairs and replacement of structurally deficient parts.

IV. Regulatory Analyses

We developed this proposed rule after considering numerous statutes and Executive Orders related to rulemaking. Below we summarize our analyses based on these statutes and Executive Orders.

A. Regulatory Planning and Review

Executive Orders 12866 and 13563 direct agencies to assess the costs and benefits of available regulatory alternatives and, if regulation is necessary, to select regulatory approaches that maximize net benefits. This proposed rule has not been designated a “significant regulatory action,” under section 3(f) of Executive Order 12866. Accordingly, the NPRM has not been reviewed by the Office of Management and Budget (OMB).

This regulatory action determination is based on the documented low utilization rates of bridge openings and the ability of vessels to transit under the bridge.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the bridge may be small entities, for the reasons stated in section IV.A above this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule affects your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would call for no new collection of information under the Paperwork Reduction Act of 1995 (44 U.S.C. 3501-3520.).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such expenditure, we do discuss the effects of this proposed rule elsewhere in this preamble.

F. Environment

We have analyzed this rule under Department of Homeland Security Management Directive 023-01, Rev.1, associated implementing instructions, and Environmental Planning Policy COMDTINST 5090.1 (series), which guide the Coast Guard in complying with the National Environmental Policy Act of 1969 (NEPA) (42 U.S.C. 4321-4370f). The Coast Guard has determined that this action is one of a category of actions that do not individually or cumulatively have a significant effect on the human environment. This proposed rule promulgates the operating regulations or procedures for drawbridges. Normally such actions are categorically excluded from further review, under paragraph L49, of Appendix A, Table 1 of DHS Instruction Manual 023-01-001-01, Rev. 1.

Neither a Record of Environmental Consideration nor a Memorandum for the Record are required for this rule. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2025-0714 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you go to the online docket and sign up for email alerts through the “Subscribe” option, you will be notified when comments/updates are posted, or a final rule is published.

We review all comments received, but we will only post comments that address the topic of the proposed rule. We may choose not to post off-topic, inappropriate, or duplicate comments that we receive.

Personal information. We accept anonymous comments. Comments we post will include any personal information you have provided. For more information about privacy and submissions in response to this document, see DHS's eRulemaking System of Records notice (85 FR 14226, March 11, 2020).

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; and DHS Delegation No. 00170.1. Revision No.01.3.

2. Stay § 117.1065 until 6 p.m. on August 31, 2027.

3. Add § 117.1065T to read as follows:

§ 117.1065T Wishkah River.

(a) When fog prevails by day or by night, the drawtender of each bridge listed in this section, after giving the acknowledging signal to open, shall toll a bell continuously during the approach and passage of vessels.

(b) The draw of the Puget Sound and Pacific railroad bridge, mile 0.1 at Aberdeen, shall be maintained in the fully open position, except for the passage of trains or for maintenance. When the draw of the bridge is closed and the visibility at the drawtender' s station is less than one mile up or down the channel, the drawtender shall sound two prolonged blasts every minute. When the draw is reopened, the drawtender shall sound one prolonged blast followed by one short blast.

(c) The draws of the Heron Street Bridge, mile 0.2 at Aberdeen, shall open on signal if at least one hour notice is given by telephone to the Washington State Department of Transportation. The opening signal for this bridge is one prolonged blast followed by two short blasts.

(d) The draw of the Wishkah Street Bridge, mile 0.4, at Aberdeen will not open for the passage of vessels.

Dated: November 20, 2025.
Arex B. Avanni,
Rear Admiral, U.S. Coast Guard, Commander, Northwest Coast Guard District.

[FR Doc. 2025-21198 Filed 11-25-25; 8:45 am]

BILLING CODE 9110-04-P